DEPARTMENT OF LABOR

Employment and Training Administration

[TA-W-51,581]

Keykert USA, Inc., Webberville, MI; Notice of Termination of Investigation

Pursuant to section 221 of the Trade Act of 1974, as amended, an investigation was initiated on April 24, 2003, in response to a worker petition filed by a company official on behalf of workers at Keykert USA Inc., Webberville, Michigan.

The petitioner has requested that the petition be withdrawn. Consequently, the investigation has been terminated.

Signed in Washington, DC, this 16th day of May, 2003.
Elliott S. Kushner,
Certifying Officer, Division of Trade Adjustment Assistance.

[FR Doc. 03-13805 Filed 6-2-03; 8:45 am]

BILLING CODE 4510-30-P